DEPARTMENT OF COMMERCE

National Oceanic and Atmospheric Administration

RIN 0648-XT14

Endangered Species; File No. 1556

AGENCY: National Marine Fisheries Service (NMFS), National Oceanic and Atmospheric Administration (NOAA), Commerce.

ACTION: Notice; issuance of permit modification.

SUMMARY: Notice is hereby given that Commonwealth of the Northern Mariana Islands, USA (CNMI), Division of Fish and Wildlife, [Sylvan Igisomar, responsible official] P.O. Box 10007, Saipan, Mariana Islands 96950 has been issued a modification to scientific research Permit No. 1556-01.

ADDRESSES: The modification and related documents are available for review upon written request or by appointment in the following office(s):

Permits, Conservation and Education Division, Office of Protected Resources, NMFS, 1315 East-West Highway, Room 13705, Silver Spring, MD 20910; phone (301) 713-2289; fax (301) 713-0376; and

Pacific Islands Region, NMFS, 1601 Kapiolani Blvd., Rm 1110, Honolulu, HI 96814-4700; phone (808) 944-2200; fax (808) 973-2941.

FOR FURTHER INFORMATION CONTACT: Kate Swails or Patrick Opay, (301) 713-2289.

SUPPLEMENTARY INFORMATION: On September 2, 2009, notice was published in the Federal Register (74 FR 45421) that a modification of Permit No. 1556 had been requested by the above-named organization. The requested modification has been granted under the authority of the Endangered Species Act of 1973, as amended (ESA; 16 U.S.C. 1531 et seq.) and the regulations governing the taking, importing, and exporting of endangered and threatened species (50 CFR 222-226).

Permit No. 1556-01 authorizes the permit holder to perform sea turtle surveys in the waters of the Northern Mariana Islands, USA. The project consists of shoreline/cliff line assessments, in-water tow dive assessments, and the hand capture of sea turtles. Turtles are handled, measured, photographed, carapace painted, tissue-sampled, flipper tagged, passive integrated transponder tagged, and released. A subset of the turtles are satellite tagged. The applicant captures up to 100 green and 40 hawksbill sea turtles annually. The permit is issued for five years.

The modification authorizes the permit holder to change the field season from April-October to year round and add shell etching and oral examination to their list of procedures.

Issuance of this modification, as required by the ESA was based on a finding that such permit (1) was applied for in good faith, (2) will not operate to the disadvantage of such endangered or threatened species, and (3) is consistent with the purposes and policies set forth in section 2 of the ESA.

Dated: November 24, 2009.
P. Michael Payne,
Chief, Permits, Conservation and Education Division, Office of Protected Resources, National Marine Fisheries Service.

[FR Doc. E9-28543 Filed 11-27-09; 8:45 am]

BILLING CODE 3510-22-S